DEPARTMENT OF TRANSPORTATION

Federal Aviation Administration

14 CFR Part 39

[Docket No. 2000-CE-43-AD; Amendment 39-13536; AD 2004-06-10]

RIN 2120-AA64

Airworthiness Directives; AeroSpace Technologies of Australia Pty Ltd Airplanes

AGENCY: Federal Aviation Administration (FAA), DOT.

ACTION: Final rule.

SUMMARY: The FAA adopts a new airworthiness directive (AD) for all AeroSpace Technologies of Australia Pty Ltd Model N22B, N22S, and N24A airplanes. This AD requires you to inspect the forward and aft face of the rear fuselage frame for cracks and to repair or modify accordingly. This AD is the result of mandatory continuing airworthiness information issued by the airworthiness authority for Australia. We are issuing this AD to detect and correct cracks in the rear fuselage frame, which could result in failure of the fuselage rear bulkhead and consequent loss of structural integrity.

DATES: This AD becomes effective on April 28, 2004.

As of April 28, 2004, the Director of the Federal Register approved the incorporation by reference of certain publications listed in the regulation.

ADDRESSES: You may get the service information identified in this AD from AeroSpace Technologies of Australia Pty Ltd; 226 Lorimer Street, Port Melbourne Victoria 3207, Australia.

You may view the AD docket at FAA, Central Region, Office of the Regional Counsel, Attention: Rules Docket No. 2000-CE-43-AD, 901 Locust, Room 506, Kansas City, Missouri 64106. Office hours are 8 a.m. to 4 p.m., Monday through Friday, except Federal holidays.

FOR FURTHER INFORMATION CONTACT: Ron Atmur, Senior Aerospace Engineer, Airframe Branch, ANM-120L, FAA, Los Angeles Aircraft Certification Office, 3960 Paramount Boulevard, Lakewood, California 90712-4137; telephone: (562) 627-5224; facsimile: (562) 627-5210.

SUPPLEMENTARY INFORMATION:

Discussion

What Events Have Caused This AD?

The Civil Aviation Safety Authority (CASA), which is the airworthiness authority for Australia, recently notified FAA that an unsafe condition may exist on all AeroSpace Technologies of Australia Pty Ltd N22 and N24 series airplanes. The CASA received a number of reports of airplanes with cracks around the rivet heads on the rear bulkhead frame. The cracks could result in failure of the fuselage rear bulkhead and consequent loss of airplane control.

What Is the Potential Impact If FAA Took No Action?

If not detected and corrected, cracks in the rear fuselage frame could cause the fuselage rear bulkhead to fail. This failure could result in loss of airplane control.

Has FAA Taken Any Action to This Point?

We issued a proposal to amend part 39 of the Federal Aviation Regulations (14 CFR part 39) to include an AD that would apply to all AeroSpace Technologies of Australia Pty Ltd Model N22B, N22S, and N24A airplanes. This proposal was published in the Federal Register as a notice of proposed rulemaking (NPRM) on December 29, 2003 (68 FR 74874). The NPRM proposed to require you to inspect the rear fuselage bulkhead of aircraft for cracks and make required repairs and/or modifications.

Comments

Was the Public Invited To Comment?

We provided the public the opportunity to participate in developing this AD. We received no comments on the proposal or on the determination of the cost to the public.

Conclusion

What Is FAA's Final Determination on This Issue?

We have carefully reviewed the available data and determined that air safety and the public interest require adopting the AD as proposed except for the changes discussed above and minor editorial corrections. We have determined that these changes and minor corrections:

• Are consistent with the intent that was proposed in the NPRM for correcting the unsafe condition; and

• Do not add any additional burden upon the public than was already proposed in the NPRM.

Changes to 14 CFR Part 39—Effect on the AD

How Does the Revision to 14 CFR Part 39 Affect This AD?

On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How Many Airplanes Does This AD Impact?

We estimate that this AD affects 14 airplanes in the U.S. registry.

What Is the Cost Impact of This AD on Owners/Operators of the Affected Airplanes?

We estimate the following costs to accomplish the inspection:

Labor cost | Parts cost | Total cost per airplane | Total cost on U.S. operators
General Visual Inspection—0.5 work hours × $60 per hour = $30 | No parts needed for inspection | $30 | $420
Detailed Visual Inspection—5 work hours × $60 per hour = $300 | No parts needed for inspection | 300 | 4,200

We estimate the following costs to accomplish any necessary repairs that will be required based on the results of the inspection. We have no way of determining the number of airplanes that may need these repairs:

Labor cost | Parts cost | Total cost per airplane
Repair—20 work hours × $60 per hour = $1,200 | $1,000 | $2,200

We estimate the following costs to accomplish the modification.

Labor cost | Parts cost | Total cost per airplane | Total cost on U.S. operators
Modification—24 work hours × $60 per hour = $1,440 | $500 | $1,940 | $27,160

Regulatory Findings

Will This AD Impact Various Entities?

We have determined that this AD will not have federalism implications under Executive Order 13132. This AD will not have a substantial direct effect on the States, on the relationship between the national government and the States, or on the distribution of power and responsibilities among the various levels of government.

Will This AD Involve a Significant Rule or Regulatory Action?

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2000-CE-43-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-06-10—Aerospace Technologies of Australia Pty Ltd: Amendment 39-13536; Docket No. 2000-CE-43-AD.

When Does This AD Become Effective?

(a) This AD becomes effective on April 28, 2004.

What Other ADs Are Affected by This Action?

(b) None.

What Airplanes Are Affected by This AD?

(c) This AD affects the following airplane models and line sequence numbers (serial numbers) that are certificated in any category:

Models | Line sequence No.
(1) N22B and N22S | 1 through 9, 11 through 29, 31, 33, 35, 37, 39 through 41, 43, 45, 47 through 59, 61, 63, 65 through 70, 82 through 88, 90 through 95, 97, 100, 102 through 114, 116, 118, 125, 126, 131 through 134, 136 through 138, 141, and 143 through 170.
(2) N24A | 10, 30, 32, 34, 36, 38, 42, 44, 46, 60, 62, 64, 71 through 81, 89, 96, 98, 99, 101, 115, 117, 119 through 124, 127 through 130, 135, 139, 140, and 142.

What Is the Unsafe Condition Presented in This AD?

(d) This AD is the result of reports of cracks around the rivet heads on the rear bulkhead frame. The actions specified in this AD are intended to detect and correct cracks in the rear fuselage bulkhead. The cracks could result in failure of the fuselage rear bulkhead and consequent loss of structural integrity.

What Must I Do To Address This Problem?

(e) To address this problem, you must do the following:

Actions | Compliance | Procedures
(1) Perform a general visual inspection of the forward face of the rear fuselage frame for cracks. | For airplanes that have not been repaired as described in the service bulletin: Inspect within 50 hours time in service (TIS) after April 28, 2004 (the effective date of this AD), if not already inspected. Repetitively inspect every 100 hours TIS thereafter until the modification in paragraph (e)(4) of this AD is done. | Do the inspection following Section 2.A of Nomad Service Bulletin ANMD-53-15. (See paragraph (f) of this AD for a list of effective pages.)
| For airplanes that have been repaired as described in the service bulletin: Inspect within 500 hours TIS after repair or next 100 hours TIS after April 28, 2004 (the effective date of this AD), whichever occurs later. Repetitively inspect every 100 hours TIS thereafter until the modification in paragraph (e)(4) of this AD is done.
(2) Perform a detailed visual inspection of the aft face of the rear fuselage frame for cracks. | For airplanes that have been repaired as described in the service bulletin: Inspect within 500 hours TIS after repair or 100 hours TIS after April 28, 2004 (the effective date of this AD), whichever occurs later. Repetitively inspect every 300 hours TIS thereafter or until the modification in paragraph (e)(4) of this AD is done. | Do the inspection following Section 2.A of Nomad Service Bulletin ANMD-53-15. (See paragraph (f) of this AD for a list of effective pages.)
(3) Repair any cracks found during any general or detailed inspection required by this AD. | If any cracks are found during a general or detailed inspection, the airplane must be repaired before further flight. See compliance for modification below. | Do repairs following Section 2.B of Nomad Service Bulletin ANMD-53-15. (See paragraph (f) of this AD for a list of effective pages.)
(4) Modify the airplane by installing AeroSpace Technologies of Australia Modification N806. | For airplanes that have not been repaired before the effective date of this AD: Modification is mandatory within 100 hours TIS or 12 months after April 28, 2004 (the effective date of this AD), whichever occurs first. Modification terminates the inspection requirements of this AD. | Do modification following Section 2.C of Nomad Service Bulletin ANMD-53-15. (See paragraph (f) of this AD for a list of effective pages.)
| For aircraft that have been repaired before the effective date of t his AD: Modification is mandatory within 3,000 hours TIS after incorporation of the repair or 18 months after April 28, 2004 (the effective date of this AD), whichever occurs later. Modification terminates the inspection requirements of this AD.

(f) The Aerospace Technologies of Australia Pty Ltd has issued the Nomad Alert Service Bulletin ANMD-53-15, which incorporates the pages as specified in paragraph (h) of this AD.

May I Request an Alternative Method of Compliance?

(g) You may request a different method of compliance or a different compliance time for this AD by following the procedures in 14 CFR 39.19. Unless FAA authorizes otherwise, send your request to your principal inspector. The principal inspector may add comments and will send your request to the Manager, Los Angeles Aircraft Certification Office (ACO), FAA. For information on any already approved alternative methods of compliance, contact Ron Atmur, Senior Aerospace Engineer, Airframe Branch, ANM-120L, FAA, Los Angeles ACO, 3960 Paramount Boulevard, Lakewood, California 90712-4137; telephone: (562) 627-5224; facsimile: (562) 627-5210.

Does This AD Incorporate Any Material by Reference?

(h) You must do the actions required by this AD following the instructions in Nomad Alert Service Bulletin ANMD-53-15, effective pages as follows:

Effective pages | Revision level | Date
1-31 (reprint of entire service bulletin) | 2 | October 6, 1997.
1 through 4, 13 through 19, and 23 and 24 | 3 | June 1, 1999.

The Director of the Federal Register approved the incorporation by reference of this service bulletin in accordance with 5 U.S.C. 552(a) and 1 CFR part 51. You may get a copy from AeroSpace Technologies of Australia Pty Ltd, 226 Lorimer Street, Port Melbourne Victoria 3207, Australia. You may review copies at FAA, Central Region, Office of the Regional Counsel, 901 Locust, Room 506, Kansas City, Missouri 64106; or at the Office of the Federal Register, 800 North Capitol Street, NW., suite 700, Washington, DC.

Is There Other Information That Relates to This Subject?

(i) Australian Airworthiness Directive AD/GAF-N22/65 Amdt 3, dated May 5, 2000, also addresses the subject of this AD.

Issued in Kansas City, Missouri, on March 17, 2004.
James E. Jackson,
Acting Manager, Small Airplane Directorate, Aircraft Certification Service.

[FR Doc. 04-6417 Filed 3-30-04; 8:45 am]

BILLING CODE 4910-13-P